DEPARTMENT OF COMMERCE

International Trade Administration

[C-570-968]

Aluminum Extrusions From the People's Republic of China: Preliminary Results of the Countervailing Duty Administrative Review and Preliminary Intent To Rescind, in Part; 2014

AGENCY: Enforcement and Compliance, International Trade Administration, Department of Commerce.

SUMMARY: In response to multiple requests from interested parties, the Department of Commerce (the Department) is conducting an administrative review of the countervailing duty order ¹ on aluminum extrusions from the People's Republic of China (PRC). The period of review (POR) is January 1, 2014 through December 31, 2014. We preliminarily determine that the companies selected for individual examination (the mandatory respondents)—Jangho ² and Zhongya 3 4 received countervailable subsidies during the POR. Interested parties are invited to comment on these preliminary results of review.

¹ See Aluminum Extrusions from the People's Republic of China: Countervailing Duty Order, 76 FR 30653 (May 26, 2011) (Order).

² For purposes of this administrative review, “Jangho” refers to the cross-owned entity consisting of the following members and affiliates of the Jangho Group: Guangzhou Jangho Curtain Wall System Engineering Co., Ltd. (Guangzhou Jangho); Guangzhou Jangho's parent company, Jangho Group Co., Ltd. (Jangho Group Company); Jangho Group Company's corporate parent, Beijing Jiangheyuan Holding Com., Ltd. (Beijing Jiangheyuan), and Jangho Group Company's producer subsidiaries, Beijing Jangho Curtain Wall System Engineering Co., Ltd. (Beijing Jangho); Shanghai Jangho Curtain Wall System Engineering Co., Ltd. (Shanghai Jangho), and Chengdu Jangho Curtain Wall System Engineering Co., Ltd. (Chengdu Jangho). As stated above, we have used “Jangho” to refer to the cross-owned entity, the entity to which we will assign a subsidy rate. See “Preliminary Results of Administrative Review,” below. We have used “the Jangho Group” and “Jangho Group” to refer to the corporate group consisting of Jangho Group Company and its subsidiaries (i.e., not including Beijing Jiangheyuan and Jangho Group Company's other corporate parent, Xinjiang Jianghe Huizhong Equity Investment Limited Partnership (Jianghe Huizhong). We have used “the Jangho companies,” to refer to the members of the Jangho Group as well as Beijing Jiangheyuan and Jianghe Huizhong. Further, Jangho Curtain Wall Hong Kong Ltd. (Jangho HK) is an affiliated Hong Kong reseller/trading company and member of the Jangho Group. For these preliminary results, we are treating Jangho HK as a Hong Kong, or non-PRC company, and as such, we are not making a cross-ownership determination or attributing any subsidies to Jangho HK, consistent with 19 CFR 351.525(b)(6) and (7). Any shipments of subject merchandise to the United States by Jangho HK will be subject to the Department's cash deposit requirements, as set forth in the section of this notice entitled, “Cash Deposit Requirements.”

³ For purposes of this FR notice, only, “Zhongya” refers to the following companies: Guangdong Zhongya Aluminium Company Limited (Guangdong Zhongya), Zhaoqing New Zhongya Aluminum Co., Ltd. (Zhaoqing New Zhongya), New Zhongya Aluminum Factory, and Karlton Aluminum Company Ltd. (Karlton) (collectively, “Zhongya”); however, this does not imply a cross-ownership determination with respect to any of these companies in this administrative review. For these preliminary results, we are treating Zhongya Shaped Aluminum (HK) Holding Limited (Zhongya HK) as a Hong Kong, or non-PRC company, and as such, we are not making a cross-ownership determination or attributing any subsidies to Zhongya HK, consistent with 19 CFR 351.525(b)(6) and (7).

⁴ In a letter to the Department in the instant review period, Zhongya indicated that Zhaoqing New Zhongya Aluminum Co., Ltd. is a predecessor company of Guangdong Zhongya Aluminum Company. In this same letter, Zhongya also indicated that while still part of Zhongya, New Zhongya Aluminum Factory changed its name to Guangdong Zhongya Aluminum Company Limited. See letter From Zhongya to the Department regarding, “Aluminum Extrusions from China,” dated August 12, 2015.

DATES: Effective Date: June 13, 2016.

FOR FURTHER INFORMATION CONTACT: Davina Friedmann, Tyler Weinhold or Robert James, AD/CVD Operations, Office VI, Enforcement and Compliance, International Trade Administration, U.S. Department of Commerce, 14th Street and Constitution Avenue NW., Washington, DC 20230; telephone: (202) 482-0698, (202) 482-1121 or (202) 482-0649, respectively.

SUPPLEMENTARY INFORMATION:

Scope of the Order

The merchandise covered by the order is aluminum extrusions which are shapes and forms, produced by an extrusion process, made from aluminum alloys having metallic elements corresponding to the alloy series designations published by The Aluminum Association commencing with the numbers 1, 3, and 6 (or proprietary equivalents or other certifying body equivalents).

Imports of the subject merchandise are provided for under the following categories of the Harmonized Tariff Schedule of the United States (“HTSUS”): 9405.99.40.20, 8424.90.90.80, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.⁵

⁵ See the Order.

Methodology

The Department conducted this review in accordance with section 751(a)(1)(A) of the Tariff Act of 1930, as amended (the Act). For each program identified as bestowing a countervailable subsidy, we preliminarily find that there is a government-provided financial contribution by an “authority” that gives rise to a benefit to the recipient, and that the subsidy is specific.⁶ For a full description of the methodology underlying all of the Department's conclusions, see the Preliminary Decision Memorandum.⁷ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Preliminary Decision Memorandum can be access directly at http://enforcement.trade.gov/frn/. The signed Preliminary Decision Memorandum and the electronic version of the Preliminary Decision Memorandum are identical in content.

⁶ See sections 771(5)(B) and (D) of the Act regarding financial contribution; section 771(5)(E) of the Act regarding benefit; and section 771(5A) of the Act regarding specificity.

⁷ See Memorandum from Christian Marsh, Deputy Assistant Secretary for Antidumping and Countervailing Duty Operations, to Paul Piquado, Assistant Secretary for Enforcement and Compliance, “Decision Memorandum for the Preliminary Results of the 2014 Countervailing Duty Administrative Review of Aluminum Extrusions from the People's Republic of China,” dated concurrently with this notice (Preliminary Decision Memorandum).

Preliminary Rate for Non-Selected Companies Under Review

As stated in the Initiation Notice, the Department issued quantity and value (Q&V) questionnaires based on import values in the CBP data to select respondents for individual examination.⁸ The Department received timely responses from each company to which it issued Q&V questionnaires, including pro se companies, required to submit such responses. For further discussion of this determination, refer to the section in the Preliminary Decision Memorandum entitled, “Background.”

⁸ See Initiation of Antidumping and Countervailing Duty Administrative Reviews and Request for Revocation in Part, 80 FR 37588 (July 1, 2015) (Initiation Notice).

Between July 1, 2015 and August 1, 2015, the Department received timely no-shipment certifications from certain companies. Because there is no evidence on the record to indicate that these companies had entries of subject merchandise during the POR, pursuant to 19 CFR 351.213(d)(3), we preliminarily intend to rescind the review with respect to these companies. These companies are listed in Appendix II to this notice. A final decision regarding whether to rescind the review of these companies will be issued with the final results of this review.

Additionally, for those companies named in the Initiation Notice for which all review requests have been timely withdrawn, we preliminarily intend to rescind this administrative review in accordance with 19 CFR 351.213(d)(1). These companies are listed at Appendix II to this notice. A final decision regarding whether to rescind the review of these companies will be issued with the final results of review.

There are 43 companies for which a review was requested and not rescinded, but were not selected as mandatory respondents. We preliminarily did not calculate the non-selected rate using a methodology of weight-averaging the rates of Jangho and Zhongya because the preliminary subsidy rate for Zhongya is based on total AFA. Instead, we preliminarily based the non-selected rate on Jangho's subsidy rate. For further information, refer to the section in the Preliminary Decision Memorandum entitled, “Ad Valorem Rate for Non-Selected Companies Under Review.”

Preliminary Results of Administrative Review

As a result of this administrative review, we preliminarily determine the listed net subsidy rates for 2014:

Company | 2014 Ad Valorem rate (percent)
Jangho | 20.62
Zhongya | 199.27
Allied Maker Limited | 20.62
A-Plus Industries Ltd. | 20.62
Asia Pacific Industrial (Group) Co., Ltd. | 20.62
Birchwoods (Lin'an) Leisure Products Co., Ltd. | 20.62
Changzhou Jinxi Machinery Co., Ltd. | 20.62
Classic & Contemporary Inc. | 20.62
Dongguang Aoda Aluminum Co., Ltd. | 20.62
Dongguan Dazhan Metal Co., Ltd. | 20.62
Dongguan Golden Tiger Hardware Industrial Co., Ltd. | 20.62
ETLA Technology (Wuxi) Co., Ltd. | 20.62
Fenghua Metal Product Factory | 20.62
Foshan Golden Source Aluminum Products Co., Ltd | 20.62
Foshan Guangcheng Aluminium Co., Ltd. | 20.62
Genimex Shanghai, Ltd. | 20.62
Global Hi-Tek Precision Limited | 20.62
Global Point Technology (Far East) Limited | 20.62
Golden Dragon Precise Copper Tube Group, Inc. | 20.62
Gold Mountain International Development, Ltd. | 20.62
Guangdong Whirlpool Electrical Appliances Co., Ltd. | 20.62
Guang Ya Aluminium Industries Co., Ltd. | 20.62
Hebei Xusen Wire Mesh Products Co., Ltd. | 20.62
Jackson Travel Products Co., Ltd. | 20.62
Jiangsu Shengrun Industry Co, Ltd. | 20.62
Jiangsu Zhenhexiang New Material Technology Co., Ltd. | 20.62
Johnson Precision Engineering (Suzhou) Co Ltd. | 20.62
Kam Kiu Aluminum Products Sdn Bhd | 20.62
Markem Imaje China (China) Co. Ltd | 20.62
Metaltek Group Co., Ltd. | 20.62
Ningbo Haina Machine Co., Ltd. | 20.62
Ningbo Innopower Tengda Machinery Co., Ltd. | 20.62
Ningbo Yinzhou Sanhua Electric Machine Factory | 20.62
Precision Metal Works Ltd. | 20.62
Sapa Profiles (Shanghai) Co., Ltd. | 20.62
Shanghai Automobile Air-Conditioner Accessories Co., Ltd | 20.62
Shanghai Tongtai Precise Aluminum Alloy Manufacturing Co., Ltd. | 20.62
Summit Heat Sinks Metal Co., Ltd. | 20.62
Suzhou New Hongji Precision Part Co. | 20.62
Taishan City Kam Kiu Aluminium Extrusion Co., Ltd. | 20.62
Taizhou United Imp & Export Corp., Ltd. | 20.62
Tianjin Jinmao Import & Export Corp., Ltd. | 20.62
Whirlpool Canada L.P. | 20.62
Whirlpool Microwave Products Development Ltd. | 20.62
Zhejiang Dongfeng Refrigeration Components Co., Ltd. | 20.62

Disclosure and Public Comment

The Department intends to disclose to interested parties the calculations performed in connection with these preliminary results within five days of the date of publication of this notice.⁹ Pursuant to 19 CFR 351.309(c), interested parties may submit case briefs no later than 30 days after the date of publication of these preliminary results of review. Parties who submit arguments are requested to submit with the argument: (1) A statement of the issue; (2) a brief summary of the argument; and (3) a table of authorities.¹⁰ Rebuttals to case briefs may be filed no later than five days after the deadline for filing case briefs, and all rebuttal comments must be limited to comments raised in the case briefs.¹¹ Case and rebuttal briefs should be filed electronically using ACCESS.¹²

⁹ See 19 CFR 351.224(b).

¹⁰ See 19 CFR 351.309(c)(2) and (d)(2).

¹¹ See 19 CFR 351.309 (d).

¹² See 19 CFR 351.303.

Pursuant to 19 CFR 351.310(c), interested parties who wish to request a hearing, or to participate if one is requested, must submit a written request to the Assistant Secretary for Enforcement and Compliance, filed electronically via ACCESS. An electronically filed document must be received successfully in its entirety by the Department's electronic records system, ACCESS, by 5:00 p.m. Eastern Time within 30 days after the date of publication of this notice.¹³ Requests should contain: (1) The party's name, address, and telephone number; (2) the number of participants; and (3) a list of issues to be discussed. Issues raised in the hearing will be limited to those raised in the respective case briefs. If a request for a hearing is made, parties will be notified of the date and time of the hearing to be held at the U.S. Department of Commerce, 14th Street and Constitution Avenue NW., Washington, DC 20230.

¹³ See 19 CFR 351.310(c).

Unless the deadline is extended pursuant to section 751(a)(3)(A) of the Act, the Department intends to issue the final results of this administrative review, including the results of its analysis of the issues raised in all written case briefs, within 120 days after the date of publication of this notice, pursuant to section 751(a)(3)(A) of the Act and 19 CFR 351.213(h)(1).

Assessment Rates

Upon completion of the administrative review, the Department shall determine, and U.S. Customs and Border Protection (CBP) shall assess, countervailing duties on all appropriate entries covered by this review. We intend to issue assessment instructions to CBP 15 days after publication of the final results of this review.

Cash Deposit Requirements

The Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. These cash deposit requirements, when imposed, shall remain in effect until further notice.

Notification to Interested Parties

We are issuing and publishing these results in accordance with sections 751(a)(1) and 777(i)(1) of the Act and 19 CFR 351.213.

Paul Piquado,
Assistant Secretary for Enforcement and Compliance.

Appendix I

List of Topics Discussed in the Preliminary Decision Memorandum

Summary

Background

Intent to Partially Rescind Review

Extension of Preliminary Results

Scope of the Order

Subsidies Valuation Information

Loan Benchmark Rates

Use of Facts Otherwise Available and Adverse Inferences

Programs Determined to be Countervailable

Programs Determined to Not Confer Measurable Benefit or Not Used

Ad Valorem Rate for Non-Selected Companies Under Review

Ad Valorem Rate for Non-Cooperative Company Under Review

Appendix II

List of Companies on Which We Are Preliminarily Rescinding This Administrative Review ¹⁴

¹⁴ According to information on the record of this review, certain companies listed below made no shipments to the United States during the instant review period. Each such company is identified as a “no shipments company.”

1. Acro Import and Export Co.

2. Activa International Inc.

3. Alnan Aluminum Co. Ltd.

4. Aluminicaste Fundicion de Mexico

5. Bracalente Metal Products (Suzhou) Co., Ltd.¹⁵

¹⁵ No shipments company.

6. Changshu Changshen Aluminum Products Co., Ltd.

7. Changzhou Tenglong Auto Parts Co., Ltd.

8. China Zhongwang Holdings, Ltd.

9. Chiping One Stop Industrial & Trade Co., Ltd.

10. Clear Sky Inc.

11. Cosco (J.M.) Aluminum Co., Ltd.

12. Danfoss Micro Channel Heat Exchangers (Jia Xing) Co., Ltd.¹⁶

¹⁶ No shipments company.

13. Dragonluxe Limited

14. Dynabright International Group (HK) Limited

15. Dynamic Technologies China

16. Ever Extend Ent. Ltd.¹⁷

¹⁷ No shipments company.

17. First Union Property Limited

18. Foreign Trade Co. of Suzhou New & High-Tech. Industrial Development Zone

19. Foshan City Nanhai Hongjia Aluminum Alloy Co., Ltd.

20. Foshan Jinlan Aluminum Co. Ltd.

21. Foshan JMA Aluminum Company Limited

22. Foshan Shanshui Fenglu Aluminum Co., Ltd.

23. Foshan Shunde Aoneng Electrical Applicances Co., Ltd

24. Foshan Yong Li Jian Aluminum Co., Ltd.

25. Fujian Sanchuan Aluminum Co., Ltd.

26. Global PMX Dongguan Co., Ltd.

27. Gran Cabrio Capital Pte. Ltd.

28. Gree Electric Appliances

29. GT88 Capital Pte. Ltd.

30. Guangdong Hao Mei Aluminum Co., Ltd.

31. Guangdong Jianmei Aluminum Profile Company Limited

32. Guangdong JMA Aluminum Profile Factory (Group) Co., Ltd.

33. Guangdong Nanhai Foodstuffs Imp. & Exp. Co., Ltd.

34. Guangdong Weiye Aluminum Factory Co., Ltd.

35. Guangdong Xingfa Aluminum Co., Ltd.

36. Guangdong Xin Wei Aluminum Products Co., Ltd.¹⁸

¹⁸ No shipments company.

37. Guangdong Yonglijian Aluminum Co., Ltd

38. Guangzhou Mingcan Die-Casting Hardware Products Co., Ltd.

39. Hangzhou Xingyi Metal Products Co., Ltd.

40. Hanwood Enterprises Limited

41. Hao Mei Aluminum Co., Ltd.

42. Hao Mei Aluminum International Co., Ltd.

43. Hanyung Alcoba Co., Ltd.

44. Hanyung Alcobis Co., Ltd.

45. Hanyung Metal (Suzhou) Co., Ltd.

46. Henan New Kelong Electrical Appliances Co., Ltd.

47. Hong Kong Gree Electric Appliances Sales Limited

48. Honsense Development Company

49. Hui Mei Gao Aluminum Foshan Co., Ltd.

50. IDEX Dinglee Technology (Tianjin) Co., Ltd.¹⁹

¹⁹ No shipments company.

51. IDEX Health ²⁰

²⁰ No shipments company.

52. IDEX Technology Suzhou Co., Ltd.²¹

²¹ No shipments company.

53. Innovative Aluminum (Hong Kong) Limited

54. iSource Asia

55. Jiangmen Qunxing Hardware Diecasting Co., Ltd.

56. Jiangsu Changfa Refrigeration Co.

57. Jiangsu Susun Group (HK) Co., Ltd.

58. Jiangyin Trust International Inc.

59. Jiangyin Xinhong Doors and Windows Co., Ltd.

60. Jiaxing Jackson Travel Products Co., Ltd.

61. Jiaxing Taixin Metal Products Co., Ltd.

62. Jiuyan Co., Ltd.

63. Justhere

64. Kanal Precision Aluminum Product Co., Ltd.

65. Kromet International Inc.

66. Kunshan Giant Light Metal Technology Co., Ltd.

67. Liaoning Zhongwang Group Co., Ltd.

68. Liaoyang Zhongwang Aluminum Profiled Co. Ltd.

69. Longkou Donghai Trade Co., Ltd.

70. Metaltek Metal Industry Co., Ltd.

71. Midea Air Conditioning Equipment Co., Ltd.

72. Midea International Training Co., Ltd./Midea International Trading Co., Ltd.

73. Miland Luck Limited

74. Nanhai Textiles Import & Export Co., Ltd.

75. New Asia Aluminum & Stainless Steel Product Co., Ltd.

76. Nidec Sankyo (Zhejang) Corporation

77. Nidec Sankyo Singapore Pte. Ltd.

78. Ningbo Coaster International Co., Ltd.

79. Ningbo Hi Tech Reliable Manufacturing Company

80. Ningbo Ivy Daily Commodity Co., Ltd.

81. Ningbo Yili Import and Export Co., Ltd.²²

²² No shipments company.

82. North China Aluminum Co., Ltd.

83. North Fenghua Aluminum Ltd.

84. Northern States Metals

85. PanAsia Aluminum (China) Limited

86. Pengcheng Aluminum Enterprise Inc.

87. Permasteelisa Hong Kong Ltd.²³

²³ No shipments company.

88. Permasteelisa South China Factory ²⁴

²⁴ No shipments company.

89. Pingguo Aluminum Company Limited

90. Pingguo Asia Aluminum Co., Ltd.

91. Popular Plastics Company Limited

92. Press Metal International Ltd

93. Samuel, Son & Co., Ltd.

94. Sanchuan Aluminum Co., Ltd.

95. Shangdong Huasheng Pesticide Machinery Co.

96. Shangdong Nanshan Aluminum Co., Ltd.

97. Shanghai Canghai Aluminum Tube Packaging Co., Ltd

98. Shanghai Dongsheng Metal

99. Shanghai Shen Hang Imp & Exp Co., Ltd.

100. Shenyang Yuanda Aluminum Industry Engineering Co. Ltd.

101. Shenzhen Hudson Technology Development Co., Ltd.

102. Shenzhen Jiuyuan Co., Ltd.

103. Sihui Shi Guo Yao Aluminum Co., Ltd.

104. Sincere Profit Limited

105. Skyline Exhibit Systems (Shanghai) Co., Ltd.

106. Suzhou JRP Import & Export Co., Ltd.

107. Tai-Ao Aluminum (Taishan) Co. Ltd.

108. Taizhou Lifeng Manufacturing Corporation

109. tenKsolar (Shanghai) Co., Ltd.

110. Tianjin Ganglv Nonferrous Metal Materials Co., Ltd.

111. Tianjin Ruxin Electric Heat Transmission Technology Co., Ltd.

112. Tianjin Xiandai Plastic & Aluminum Products Co., Ltd.

113. Tiazhou Lifeng Manufacturing Corporation/Taizhou Lifeng Manufacturing Corporation, Ltd.

114. Top-Wok Metal Co., Ltd.

115. Traffic Brick Network, LLC

116. Union Industry (Asia) Co., Ltd.

117. USA Worldwide Door Components (Pinghu) Co., Ltd.

118. Wenzhou Shengbo Decoration & Hardware

119. Whirlpool (Guangdong)

110. WTI Building Products, Ltd.

111. Xin Wei Aluminum Co.²⁵

²⁵ No shipments company.

112. Xin Wei Aluminum Company Limited ²⁶

²⁶ No shipments company.

113. Xinya Aluminum & Stainless Steel Product Co., Ltd.

114. Yongji Guanghai Aluminium Industry Co., Ltd.²⁷

²⁷ In the third administrative review, the role of this company was that of an input supplier. Absent information to the contrary placed on the record of this administrative review, we are treating this company as an input supplier, and therefore, preliminarily intend to rescind the review of this company.

115. Zahoqing China Square Industry Limited/Zhaoqing China Square Industry Limited

116. Zhaoqing Asia Aluminum Factory Company Ltd.

117. Zhaoqing China Square Industrial Ltd.

118. Zhejiang Anji Xinxiang Aluminum Co., Ltd.

119. Zhejiang Yongkang Listar Aluminum Industry Co., Ltd.

120. Zhejiang Zhengte Group Co., Ltd.

121. Zhenjiang Xinlong Group Co., Ltd.

122. Zhongshan Daya Hardware Co., Ltd.

123. Zhongshan Gold Mountain Aluminum Factory Ltd.

124. Zhuhai Runxingtai Electrical Equipment Co., Ltd.

[FR Doc. 2016-13830 Filed 6-10-16; 8:45 am]

BILLING CODE 3510-DS-P